DEPARTMENT OF HEALTH AND HUMAN SERVICES

Office of Inspector General

Program Exclusions: Correction

AGENCY: Office of Inspector General, HHS.

ACTION: Notice of program exclusions; correction.

SUMMARY: The HHS Office of Inspector General published a document in the Federal Register of February 14, 2003, imposed exclusions. The document contained an incorrect exclusion type.

FOR FURTHER INFORMATION CONTACT: Jacqueline Freeman, (410) 786-5197.

Correction

In the Federal Register of February 14, 2003, in FR Doc. 68 FR 7569, on page 7569, in the second column, correct the “exclusion type” caption to read:

Fraud/Kickbacks/Other Prohibited Acts/Settlement Agreements

L & L Psychological Svcs, P C, Old Greenwich, CT, 10/31/2002.

Michael W. Lonski, Old Greenwich, CT, 10/31/2002.

Michael Lonski, PhD, P C, Old Greenwich, CT, 10/31/2002.

Dated: July 20, 2004.
Katherine B. Petrowski,
Director, Exclusions Staff, Office of Inspector General.

[FR Doc. 04-17230 Filed 7-28-04; 8:45 am]

BILLING CODE 4150-04-P